DEPARTMENT OF AGRICULTURE

Forest Service

Information Collection; Request for Comments; Hispanic Perceptions and Uses of the Urban Forest

AGENCY: Forest Service, USDA.

ACTION: Notice.

SUMMARY: In accordance with the Paperwork Reduction Act of 1995, the Forest Service is seeking comments from all interested individuals and organizations regarding the new information collection entitled, “Hispanic Perceptions and Uses of the Urban Forest.”

DATES: Comments must be received in writing on or before April 19, 2005, to be assured of consideration. Comments received after that date will be considered to the extent practicable.

ADDRESSES: Comments concerning this notice should be addressed to Cassandra Johnson, Forestry Sciences Laboratory, Forest Service, USDA, 320 Green St., Athens, GA 30602-2044.

Comments also may be submitted to Cassandra Johnson via facsimile to (706) 559-4266 or by e-mail to cjohnson09@fs.fed.us.

The public may inspect comments received at the Forestry Sciences Laboratory, Forest Service, USDA, 320 Green St., Athens, Georgia, during normal business hours. Visitors are encouraged to call ahead to (706) 559-4222 to facilitate entry to the building.

FOR FURTHER INFORMATION CONTACT: Cassandra Johnson, Forestry Sciences Laboratory, at (706) 559-4270. Individuals who use telecommunication devices for the deaf (TDD) may call the Federal Relay Service (FRS) at 1-800-877-8339 twenty-four hours a day, every day of the year, including holidays.

SUPPLEMENTARY INFORMATION: Title: Hispanic Perceptions and Uses of the Urban Forest.

OMB Number: 0596-New.

Expiration Date of Approval: N/A.

Type of Request: New.

Abstract: Within the past 20 years, Hispanics have either immigrated or migrated to the southeastern United States, excluding Florida, in unprecedented numbers. In the 10-year period from 1990 to 2000, the Hispanic population of Hall County in northeast Georgia increased by almost 5 times, from 4 percent in 1990 to 19.6 percent in 2000. Recent studies have examined Hispanic employment, housing, and education in parts of the South where Hispanics are relatively new arrivals; however, there are virtually no investigations of Hispanic interactions with urban green spaces in this area.

Hispanic use of outdoor environments in the South is an important consideration for the Forest Service because of the impact of a growing population on the region's finite natural resources. Urbanization, propelled by an increase in the population, is one of the most significant contributors to forest fragmentation in the South. Relatively little is known about how Hispanics, one of the largest growing groups, perceive and use urban and community forests.

Federal statutes which authorize this information collection include the Food, Agriculture, Conservation, and Trade Act of 1990; Executive Order 12898 (1994) relating to environmental justice; and the National Environmental Policy Act of 1969.

The study area for this information collection is located within the city of Gainesville, Georgia. Gainesville has a population of approximately 25,000 and is located in Hall County with a population of 156,000 in northeast Georgia. In 2000, Hispanics accounted for about 20 percent of the Hall County population and 33 percent of Gainesville's population. The population of interest for this information collection is Hispanic residents who live within Census Tract 11, located within the city of Gainesville. This area encompasses 3.70 square miles. Residential areas in Census Tract 11 include apartment complexes and single family homes.

The total population for Census Tract 11 is 9,170, of which 6,307 are Hispanic. This census tract was chosen because of the high proportion (68.8 percent) of Hispanic residents. The proportion of Hispanics over 18 in the census tract is 64 percent. Fifty-eight percent of the residents are foreign-born. The majority of the foreign-born population within this census tract came to the United States between 1990 and 2000. Census Tract 11 contains 5 census Block Groups. The proportion of Hispanics in each of these block groups ranges from 35 to 84 percent.

This study will provide both basic and applied research for the Forest Service's Urban and Community Forestry program. Results will enable the Forest Service to better understand the types of tree coverage and green spaces preferred by recent Hispanic immigrants and migrants to Gainesville, Georgia. Little information exists on the environmental preferences of racial and ethnic minorities in urban areas regarding preferences for tree coverage, layout, and design. Urban foresters have made specific requests for information about urban, ethnic populations in Georgia and how urban forests are perceived.

The proposed study relates to the Forest Service's national Urban and Community Forestry program (U&CF) which focuses on community involvement with the urban forest. The U&CF program provides funding for community cost-share grants, state technical assistance, the National Urban and Community Forest grants (NUCFAC), and Tree City USA (Pub. L. 101-624, Title XII, Section 1219; Walker, 2003). The Forest Service recognizes that research is an important component of urban and community forestry. Research focusing on public perception and use of urban forests provides a vital link between urban constituents and communities and the Forest Service. Research questions focus on:

1. The perceptions Hispanics have of trees and other green space outside their homes;

2. The kinds of trees Hispanics prefer, such as oak, pine, sycamore;

3. The ways Hispanics use yard space; and

4. The perceptions Hispanics have of trees and other green space in their neighborhoods.

Urban and community forest advocates nationwide have established the following goals with respect to increasing involvement of ethnic and racial minorities and underserved populations in Urban and Community Forestry programs:

• Educate minority sectors in the care and stewardship of urban forests where they live, work, and play.

• Create a strong network of minority communities, non-profit organizations, Federal agencies, and private industries to better target the needs of these communities.

• Provide educational and career opportunity information to low income and chronically disadvantaged groups in the area of urban and community forestry.

• Discuss and document strategies by which urban and community forestry programs can increase the quality of life in minority communities.

The first phase of the data collection will involve interviews with a key community contact from the Hispanic community in Gainesville. A graduate student from the University of Georgia Department of Geography will work with Forest Service research personnel to interview this individual. The key contact will be familiar with the lifestyle, socioeconomic, employment, and educational status of Hispanics in Gainesville.

The second phase of the data collection will involve a random sample of Hispanic residents from Census Tract 11. This data collection consists of one-on-one, face-to-face interviews with randomly selected Hispanic residents from Census Tract 11. Residents 18 and over will be asked to respond to the survey. The interviews will take place at the respondent's home or at a location agreed upon by the interviewer and the respondent.

A list of potential respondent addresses and telephone numbers will be purchased from Survey Sampling, Inc. located in Fairfield, Connecticut. The key community contact will publicize the information collection through his or her contacts in the community and via word of mouth.

Interviewers will send letters to potential respondents explaining the survey and the dates on which the interviewer will conduct field interviews. Follow-up phone calls will be made to help ensure potential respondents are aware of the information collection and the dates on which the interviewer will conduct the survey. The survey instrument will be translated into Spanish. Respondents will have a choice of responding in Spanish or English. The graduate student interviewer is fluent in both English and Spanish.

The number of respondents comprising the sample size is based on an estimate of the Hispanic population in Gainesville. Based on census figures, we know that approximately 64 percent of the population is comprised of Hispanics 18 years of age or older. The sample size calculation assumes a 5 percent margin of error and the 95 percent confidence level. Sample size is based on the following equation:

n = 4P*Q/.0025

Where n = sample size, P = proportion of population with the characteristic, i.e., percent Hispanic; Q = proportion of population without the characteristic, i.e., not Hispanic. The sample size is calculated at 368 (n = 4*.64*.36/.0025). The resulting calculation is rounded down to 300 because of logistical limitations associated with collecting door-to-door interviews.

Forest Service managers would use this information to develop outreach strategies designed to encourage greater Hispanic participation in urban forest stewardship. Specifically, this involves developing programs to promote volunteerism and community participation. In cooperation with state forestry agencies and municipal parks agencies, the Forest Service will provide technical advice to communities to ensure that urban green projects are environmentally feasible.

Tabulation and analysis of the quantitative data will be performed by researchers with the Forest Service in Athens, Georgia, and the University of Georgia geography department. Statistical analyses include means difference tests, Chi-square tests, and multivariate regression. Journal articles will be drafted to report the more significant methodological or theoretical findings.

If the information proposed herein is not collected, data concerning Hispanic perception and use of the urban forest will not be available to the Forest Service. The resources specified in this proposal are not federally managed. However, federal resources and programs provide partial support for their continuance.

The agency is committed to encouraging more participation in tree stewardship by urban communities, including minority and ethnically diverse populations. In order to achieve this goal, the agency must have better information on how specific groups interact with the urban forest.

Estimate of Annual Burden: 15 minutes.

Type of Respondents: Hispanic residents in Gainesville, Georgia.

Estimated Annual Number of Respondents: 300.

Estimated Annual Number of Responses per Respondent: 1.

Estimated Total Annual Burden on Respondents: 75 hours.

Comment is invited on: (1) Whether this collection of information is necessary for the stated purposes and the proper performance of the functions of the agency, including whether the information will have practical or scientific utility; (2) the accuracy of the agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

Use of Comments

All comments received in response to this notice, including names and addresses when provided, will be a matter of public record. Comments will be summarized and included in the submission requesting Office of Management and Budget approval.

Dated: January 25, 2005.
Ann M. Bartuska,
Deputy Chief for Research & Development.

[FR Doc. 05-3123 Filed 2-17-05; 8:45 am]

BILLING CODE 3410-11-P